DEPARTMENT OF TRANSPORTATION

Federal Aviation Administration

14 CFR Part 71

[Docket No. FAA-2013-0659; Airspace Docket No. 13-AWP-12]

Establishment of Class D Airspace and Class E Airspace; Laguna AAF, AZ

AGENCY: Federal Aviation Administration (FAA), DOT.

ACTION: Final rule.

SUMMARY: This action establishes Class D airspace and Class E airspace at Laguna Army Air Field (AAF), (Yuma Proving Ground), Yuma, AZ. The establishment of an air traffic control tower has made this action necessary for the safety and management of Instrument Flight Rules (IFR) operations at the airport.

DATES: Effective date, 0901 UTC, February 6, 2014. The Director of the Federal Register approves this incorporation by reference action under 1 CFR Part 51, subject to the annual revision of FAA Order 7400.9 and publication of conforming amendments.

FOR FURTHER INFORMATION CONTACT: Eldon Taylor, Federal Aviation Administration, Operations Support Group, Western Service Center, 1601 Lind Avenue SW., Renton, WA 98057; telephone (425) 203-4537.

SUPPLEMENTARY INFORMATION:

History

On September 19, 2013, the FAA published in the Federal Register a notice of proposed rulemaking (NPRM) to establish controlled airspace at Laguna AAF, AZ (78 FR 57545). Interested parties were invited to participate in this rulemaking effort by submitting written comments on the proposal to the FAA. No comments were received.

Class D airspace and Class E airspace designations are published in paragraphs 5000 and 6005, respectively, of FAA Order 7400.9X dated August 7, 2013, and effective September 15, 2013, which is incorporated by reference in 14 CFR 71.1. The Class D and Class E airspace designations listed in this document will be published subsequently in that Order.

The Rule

This action amends Title 14 Code of Federal Regulations (14 CFR) Part 71 by establishing Class D airspace extending upward from the surface to and including 1,700 feet mean sea level (MSL) within a 3.5-mile radius of Laguna AAF (Yuma Proving Ground), Yuma, AZ; and Class E airspace extending upward from 700 feet above the surface within a 8.8-mile radius of the airfield, with a segment extending from the 8.8-mile radius to 13.5 miles northwest of the airfield. The establishment of an air traffic control tower has made this action necessary and provides the required controlled airspace for the safety and management of IFR operations at the airfield.

The FAA has determined this regulation only involves an established body of technical regulations for which frequent and routine amendments are necessary to keep them operationally current. Therefore, this regulation: (1) is not a “significant regulatory action” under Executive Order 12866; (2) is not a “significant rule” under DOT Regulatory Policies and Procedures (44 FR 11034; February 26, 1979); and (3) does not warrant preparation of a regulatory evaluation as the anticipated impact is so minimal. Since this is a routine matter that only affects air traffic procedures and air navigation, it is certified this rule, when promulgated, does not have a significant economic impact on a substantial number of small entities under the criteria of the Regulatory Flexibility Act. The FAA's authority to issue rules regarding aviation safety is found in Title 49 of the U.S. Code. Subtitle 1, Section 106 discusses the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it establishes controlled airspace at Laguna AAF, (Yuma Proving Ground), Yuma, AZ.

Environmental Review

The FAA has determined that this action qualifies for categorical exclusion under the National Environmental Policy Act in accordance with FAA Order 1050.1E, “Environmental Impacts: Policies and Procedures,” paragraph 311a. This airspace action is not expected to cause any potentially significant environmental impacts, and no extraordinary circumstances exist that warrant preparation of an environmental assessment.

List of Subjects in 14 CFR Part 71

Airspace, Incorporation by reference, Navigation (air)

Adoption of the Amendment

In consideration of the foregoing, the Federal Aviation Administration amends 14 CFR Part 71 as follows:

PART 71—DESIGNATION OF CLASS A, B, C, D AND E AIRSPACE AREAS; AIR TRAFFIC SERVICE ROUTES; AND REPORTING POINTS

1. The authority citation for 14 CFR Part 71 continues to read as follows:

Authority: 49 U.S.C. 106(g), 40103, 40113, 40120; E. O. 10854, 24 FR 9565, 3 CFR, 1959-1963 Comp., p. 389.

§ 71.1 [Amended]

2. The incorporation by reference in 14 CFR 71.1 of the Federal Aviation Administration Order 7400.9X, Airspace Designations and Reporting Points, dated August 7, 2013, and effective September 15, 2013 is amended as follows:

Paragraph 5000 Class D airspace.

* * * * *

AWP AZ D Laguna AAF, AZ [New]

Laguna AAF (Yuma Proving Ground), Yuma, AZ

(Lat. 32°51′53″ N., long. 114°23′35″ W.)

That airspace extending upward from the surface to and including 1,700 feet MSL within a 3.5-mile radius of Laguna AAF; excluding that airspace in Restricted Area R-2306E and R-2307 when they are in effect. This Class D airspace area is effective during the specific dates and times established in advance by a Notice to Airmen. The effective date and time will thereafter be continuously published in the Airport/Facility Directory.

Paragraph 6005 Class E airspace areas extending upward from 700 feet or more above the surface of the earth.

* * * * *

AWP AZ E5 Laguna AAF, AZ [New]

Laguna AAF (Yuma Proving Ground), Yuma, AZ

(Lat. 32°51′53″ N., long. 114°23′35″ W.)

That airspace extending upward from 700 feet above the surface within 8.8-mile radius of the Laguna AAF and within 2 miles each side of the Laguna AAF 348° bearing extending from the 8.8-mile radius to 13.5 miles northwest of the airport.

Issued in Seattle, Washington, on November 15, 2013 .
Clark Desing,
Manager, Operations Support Group, Western Service Center.

[FR Doc. 2013-28482 Filed 11-29-13; 8:45 am]

BILLING CODE 4910-13-P